DEPARTMENT OF JUSTICE

Notice of Lodging of Settlement Agreement Under the Comprehensive Environmental Response, Compensation, and Liability Act of 1980 (“CERCLA”)

Consistent with Section 122(d) of the Comprehensive Environmental Response, Compensation, and Liability Act of 1980, as amended (“CERCLA”) 42 U.S.C. 9622(d), and 28 CFR 50.7, notice is hereby given that on May 24, 2007, a proposed Settlement Agreement with Dean R. Soulliere et al. in United States v. Dean R. Soulliere and Colleen A. Soulliere, and Soulliere and Jackson, Inc., d/b/a One Hour Martinizing, No. 8:07-cv-00203 (E.D. Missouri), was lodged with the United States District Court for the Eastern District of Missouri.

In this action, the United States sought to establish the amount of the defendant's liability, pursuant to Section 107 of CERCLA, 42 U.S.C. 9607, for the costs incurred and to be incurred by the United States in responding to the release and/or threatened release of hazardous substances at and from the 10th Street Superfund Site in the south-central portion of the City of Columbus in Platte County, Nebraska. Under the proposed Settlement Agreement, Defendants shall pay to the United States and EPA the amount of $100,000.00 to the United States Department of Justice in reimbursement of costs incurred by the United States at the Site.

The Department of Justice will receive for a period of thirty (30) days from the date of this publication comments relating to the Settlement Agreement. Comments should be addressed to the Assistant Attorney General, Environment and Natural Resources Division, and either e-mailed pubcomment-ees.enrd@usdoj.gov or mailed to P.O. Box 7611, U.S. Department of Justice, Washington, DC 200447-7611, and should refer to United States v. Dean R. Soulliere et al. (Settlement Agreement with Dean R. Soulliere et al., DOJ Ref. No. 90-11-2-07430).

The Settlement Agreement may be examined at U.S. EPA Region 7, 901 North 5th Street, Kansas City, KS 66101. Please reference the EPA Region and Site-Spill ID number 07CS OU2 (contact Gearhardt Braeckel (931) 551-7108). Agreement may also be examined at United States Attorney's Office for the District of Nebraska, 1620 Dodge Street, Suite 1400, Omaha, NE 681027-1506 (contact Laurie Kelly (402) 661-3700). During the public comment period, the Settlement Agreement may also be examined on the following Department of Justice Web site, http://www.usdoj.gov/enrd/Consent_Decrees.html. A copy of the Settlement Agreement may also be obtained by mail from the Consent Decree Library, U.S. Department of Justice, P.O. Box 7611, Washington, DC 20044-7611 or by faxing, or e-mailing a request to Tonia Fleetwood (tonia.fleetwood@usdoj.gov), fax no. (202) 512-0097, phone confirmation number (202) 514-1547. In requesting a copy from the Consent Decree Library, please refer to United States v. Dean R. Soulliere and Colleen A. Soulliere, and Soulliere and Jackson, Inc., d/b/a One Hour Martinizing (Settlement Agreement with Dean R. Soulliere et al., DOJ Ref. No. 90-11-2-07430), and enclose a check in the amount of $2.00 (25 cents per page reproduction cost) payable to the U.S. Treasury or, if by e-mail or fax, forward a check in that amount to the Consent Decree Library at the stated address.

Robert E. Maher, Jr.,
Assistant Section Chief, Environmental Enforcement Section, Environment and Natural Resources Division.

[FR Doc. 07-3042 Filed 6-20-07; 8:45 am]

BILLING CODE 4410-15-M